DEPARTMENT OF TRANSPORTATION

Federal Aviation Administration

RTCA, Inc. Special Committee 198; Next Generation Communications (NEXCOM)

Pursuant to section 10(a)(2) of the Federal Advisory Committee Act (Pub. L. 92-463, 5 U.S.C., Appendix 2), notice is hereby given for an RTCA NEXCOM Special Committee 198 meeting to be held April 12, 2001, starting at 9:00 a.m. The meeting will be held at the RTCA Inc., 1140 Connecticut Ave, NW., Suite 1020, Washington, DC, 20546.

The Agenda will include: (1) Welcome and Introductory Remarks; (2) Review Previous Meeting Minutes; (3) Review Meeting Agenda; (4) Introduce Working Group Chairs and Secretaries; (5) Review First Draft of Working Group (WG)-1 Response to Chairman's Report and receive plenary sessions comments; (6) Review First Draft of WG-2 Principles of Operation and receive plenary session comments; (7) Review Status of Action Items; (8) Other Business; (9) Date and Location of Next Meeting; (10) Closing.

Attendance is open to the interested public but limited to space availability. With the approval of the Co-chairmen, members of the public may present oral statements at the meeting. Persons wishing to present statements or obtain information should contact the RTCA, Inc., at (202) 833-9339 (phone), (202) 833-9434 (facsimile).

Issued in Washington, DC on March 21, 2001.
Janice L. Peters,
Designated Official.

[FR Doc. 01-7498 Filed 3-26-01; 8:45 am]

BILLING CODE 4910-13-M